Proclamation 9600 of April 28, 2017

National Charter Schools Week, 2017

By the President of the United States of America

A Proclamation

During National Charter Schools Week, we recommit ourselves to empowering students and giving parents their rightful freedom over their children's education. We recognize the successful public charter schools across the country and the families, teachers, administrators, and communities who continue to invest in our Nation's most precious resource—our children.

More than 25 years ago, an idea took root: educators free of restrictive processes and policies, and empowered to experiment with new teaching methods, would generate better outcomes for students. Charter schools are built around this idea. Like traditional public schools, they are tuition-free, but they operate independently from traditional school boards and, in exchange, are held accountable by local authorizers to standards that are often more demanding.

Education is the foundation for success, and educational opportunity should not be limited or defined by status, income, or residence. All children deserve access to a quality education. When our children receive a rigorous education and are held to high standards, they can achieve their goals, rise out of poverty, and actively engage in our democracy.

For too long, however, students across this country have been trapped in failing or underperforming schools simply because of their zip code. The Washington one-size-fits-all approach has not worked for far too many of our children. Fortunately, we have seen how allowing families the freedom to choose other schooling options—including charter schools—delivers life-changing results.

Today, 44 States and the District of Columbia have laws that allow for charter schools, which enroll more than 3 million students. The demand for charter schools only continues to grow: a recent study showed that at least 70 percent of parents favor opening a charter school in their neighborhood. This is because charter schools work. According to Stanford University's Center for Research on Education Outcomes study, students in urban charter schools, on average, achieve significantly greater outcomes in both reading and math. This is why I have called upon the Congress to increase funding for charter schools as well as school choice programs for disadvantaged youth, which would include millions of African American and Latino children. Under the leadership of Secretary of Education Betsy DeVos, we will expand charter school options for students throughout the United States.

As Americans, we have an abiding conviction that our next generation's future should be even brighter than ours. Education provides the staircase out of poverty, toward a fulfilling life of work and service, and a true shot at the American Dream. We want every student—from New Orleans to Kansas City, from Houston to Detroit, and every city and town in between—to rise to success. Charter schools have tremendous potential to offer students around the country the priceless gift of possibility. As a Nation, we should support the continued success of charter schools and hold our students up to the high standards they are all capable of achieving.

NOW, THEREFORE, I, DONALD J. TRUMP, President of the United States of America, by virtue of the authority vested in me by the Constitution and the laws of the United States, do hereby proclaim April 30 through May 6, 2017, as National Charter Schools Week. I commend our Nation's successful public charter schools, teachers, and administrators, and I call on States and communities to empower parents and families by supporting high-quality charter schools as an important school choice option.

IN WITNESS WHEREOF, I have hereunto set my hand this twenty-eighth day of April, in the year of our Lord two thousand seventeen, and of the Independence of the United States of America the two hundred and forty-first.

[FR Doc. 2017-09078

Filed 5-2-17; 11:15 am]

Billing code 3295-F7-P